FEDERAL COMMUNICATIONS COMMISSION

Public Information Collections Approved by Office of Management and Budget

January 25, 2002.

The Federal Communications Commission (FCC) has received Office of Management and Budget (OMB) approval for the following public information collections pursuant to the Paperwork Reduction Act of 1995, Pub. L. 104-13. An agency may not conduct or sponsor and a person is not required to respond to a collection of information unless it displays a currently valid control number. For further information contact Shoko B. Hair, Federal Communications Commission, (202) 418-1379.

Federal Communications Commission

OMB Control No.: 3060-0787.

Expiration Date: 07/31/2002.

Title: Implementation of the Subscriber Carrier Selection Changes Provisions of the Telecommunications Act of 1996; Policies and Rules Concerning Unauthorized Changes of Consumers Long Distance.

Form No.: FCC Form 478.

Respondents: Business or other for-profit.

Estimated Annual Burden: 1850 respondents; 14 hour per response (avg.) (7 hours per filing); 25,900 total annual burden hours. (Estimates for FCC Form 478 requirements only).

Estimated Annual Reporting and Recordkeeping Cost Burden: $0.

Frequency of Response: Semi-Annual; Recordkeeping.

Description: Section 258 of the Communications Act of 1934 (Act), as amended by the Telecommunications Act of 1996, makes it unlawful for any telecommunications carrier to “submit or execute a change in a subscriber's selection of a provider of telecommunications exchange service or telephone toll service except in accordance with such verification procedures as the Commission shall prescribe.” The section further provides that any telecommunications carrier that violates such verification procedures and that collects charges for telephone exchange service or telephone toll service from a subscriber shall be liable to the carrier previously selected by the subscriber in an amount equal to all charges paid by the subscriber after such violation. The rules and requirements implementing section 258 can be found primarily at 47 CFR part 64. FCC Form 478, Telecommunications Slamming Complaint Reporting Form, is mandated by 47 CFR 64.1180. Pursuant to Section 64.1180(a), each provider of telephone exchange and/or telephone toll service shall submit to the Commission via e-mail (slamming478@fcc.gov), U.S. Mail, or facsimile a slamming complaint reporting form identifying the number of slamming complaints received during the reporting period and other information as specified in subsection (b) of section 64.1180. See 47 CFR 64.1180. Carriers are required to complete and file a copy of the FCC Form 478. Carriers are encouraged to maintain all records regarding slamming complaints for at least 24 month from the date on which they receive written, electronic, or oral contact by a consumer alleging that an unauthorized change in his/her preferred carrier was made by the carrier or by another carrier. The Commission recently revised FCC Form 478 to clarify for carriers the requirements of the form. Among other things, the instructions in Block 3 and Block 4 have been clarified so that carriers count complaints on a per-customer basis rather than a per-line basis. To the extent a carrier cannot report its complaints on a per-customer basis, the carrier is asked to explain the methodology it has chosen to count the complaints, and why it has chosen that methodology. In addition, FCC Form 478 instructions at Lines 112, 113 and 114 were amended to clarify when a complaint should be considered resolved under the Commission's rules. The information will be used to implement section 258 of the Act. The information will strengthen the ability of our rules to deter slamming, while protecting consumers from carriers that may take advantage of consumer confusion over different types of telecommunications services. The information gathered in response to the reporting requirement will enable the Commission to identify, as soon as possible, the carriers that repeatedly initiate unauthorized changes. A copy of the revised FCC Form 478 may be downloaded from the Commission's forms Web page, www.fcc.gov/formpage.html. Obligation to respond: Mandatory.

Public reporting burden for the collections of information are as noted above. Send comments regarding the burden estimates or any other aspect of the collections of information, including suggestions for reducing the burden to Performance Evaluation and Records Management, Washington, DC 20554.

Federal Communications Commission.
William F. Caton,
Acting Secretary.

[FR Doc. 02-2465 Filed 1-31-02; 8:45 am]

BILLING CODE 6712-01-P